DEPARTMENT OF STATE

[Public Notice 5318]

State-69 WebMove Records

SUMMARY: Notice is hereby given that the Department of State proposes to create a new system of records, STATE-69, pursuant to the Provisions of the Privacy Act of 1974 as amended (5 U.S.C.(r)), and the Office of Management and Budget Circular No. A-130, Appendix I. The Department's report was filed with the Office of Management and Budget on February 9, 2006.

It is proposed that the new system will be named “WebMove Records.” This system description is proposed in order to reflect more accurately the Office of Logistics Management Transportation Management Office and the General Services Officers at Posts' record-keeping system, activities and operations. Any persons interested in commenting on this new system of records may do so by submitting comments in writing to Margaret P. Grafeld, Director; Office of Information Programs and Services; A/RPS/IPS; Department of State, SA-2; Washington, DC 20522-6001. This system of records will be effective 40 days from the date of publication, unless we receive comments that will result in a contrary determination.

This new system description, “WebMove Records, State-69” will read as set forth below.

Dated: February 8, 2006.
Frank Coulter,
Acting Assistant Secretary for the Bureau of Administration, Department of State.

STATE-69

SYSTEM NAME:

WebMove Records.

SECURITY CLASSIFICATION:

Unclassified.

SYSTEM LOCATION:

Department of State; 2201 C Street, NW., Washington, DC 20520.

CATEGORIES OF INDIVIDUALS COVERED BY THE SYSTEM:

All employees of the Department of State who are undergoing a job transfer, retirement or supplemental shipment that involves a Department of State funded relocation.

CATEGORIES OF RECORDS IN THE SYSTEM:

POV transfer, Home Service Transfer Allowance, Foreign Transfer Allowance, Travel Authorization forms. Shipment Request—name, social security number, travel authorization number, billing, shipment types and expenses, vendor name and travel dates.

AUTHORITY FOR MAINTENANCE OF THE SYSTEM:

22 U.S.C. 4081, Travel and Related Expenses; 22 U.S.C. 5724a, Relocation Expenses of Employees Transferred or Reemployed; 5 U.S.C. 301, 302, Management of the Department of State; 22 U.S.C. 2581, General Authority; 22 U.S.C. 2651a, Organization of the Department of State; 22 U.S.C. 2677, Availability of Funds for the Department of State; 22 U.S.C. 3921, Management of the Foreign Service; 22 U.S.C. 3927, Responsibility of Chief of Mission; Executive Order 9397 (Numbering System for Federal Accounts Relating to Individual Persons); Executive Order 9830 (as amended) (Amending the Civil Service Rules and Providing for Federal Personnel Administration); and Executive Order 12107 (as amended) (Relating to the Civil Service Commission and Labor-Management in the Federal Service).

PURPOSE(s):

The information contained in this system of records is collected and maintained by the Office of Logistics Management Transportation Management Office and General Service Officers at Posts in the administration of their responsibility for maintaining the State Department's centralized relocation and transportation management office. The information contained in this system of records assists in facilitating Department of State employee move requests. This information is maintained in a database and is accessible only by the employee and other appropriate personnel. Home and designated contact information not publicly accessible is solicited for travel-related matters only.

ROUTINE USES OF RECORDS MAINTAINED IN THE SYSTEM, INCLUDING CATEGORIES OF USERS AND PURPOSES OF SUCH USES:

Records in the system of records are used for relocation purposes. The principal users of this system of records are Department personnel and their agents involved in processing a move. This information may also be released on a need-to-know basis to other government agencies when the information is necessary for services regarding a relocation. See also the “Routine Uses” paragraphs from the Department's Prefatory Statement.

POLICIES AND PRACTICES FOR STORING, RETRIEVING, ACCESSING, RETAINING AND DISPOSING OF RECORDS IN THE SYSTEM:

STORAGE:

Electronic media only.

RETRIEVABILITY:

Individual name.

SAFEGUARDS:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage. To ensure that your data is private and secure, we use a government computer system that employs industry standard encryption technology. All access to data is provided via secure features that require a log-in with a user ID and password.

RETENTION AND DISPOSAL:

These records will be maintained until they become inactive, at which time they will be retired or destroyed in accordance with published records schedules of the Department of State and as approved by the National Archives and Records Administration. More specific information may be obtained by writing to the Director; Office of Information Programs and Services; SA-2; Department of State; 515 22nd Street, NW., Washington, DC 20522-8100.

SYSTEM MANAGER AND ADDRESS:

Office Director, Program Management and Policy (A/LM/PMP); Department of State; 2201 C Street, NW., Washington, DC 20522.

NOTIFICATION PROCEDURE:

Individuals who have reason to believe that the Office of Logistics Management might have records pertaining to themselves should write to the Director; Office of Information Programs and Services; SA-2; Department of State; 515 22nd Street, NW., Washington, DC 20522-8100. The individual must specify that he/she wishes the WebMove system to be checked. At a minimum, the individual should include: Name; date and place of birth; current mailing address and zip code; signature; and preferably his/her social security number; if appropriate add: A brief description of the circumstances, including the city and/or country and approximate dates, which gives the individual cause to believe that the Office of Logistics Management has records pertaining to him or her that is listed in the WebMove system.

RECORD ACCESS AND AMENDMENT PROCEDURES:

Individuals who wish to gain access to or amend records pertaining to them should write to the Director; Office of Information Programs and Services; SA-2; Department of State; 515 22nd Street, NW., Washington, DC 20522-8100.

RECORD SOURCE CATEGORIES:

These records contain information obtained primarily from the individual who is the subject of these records and his/her spouse and/or dependent(s).

SYSTEMS EXEMPTED FROM CERTAIN PROVISIONS OF THE ACT:

None.

[FR Doc. 06-1625 Filed 2-17-06; 8:45 am]

BILLING CODE 4710-24-P